ENVIRONMENTAL PROTECTION AGENCY

40 CFR Part 52

[EPA-R07-OAR-2014-0550; FRL-9919-87-Region 7]

Approval and Promulgation of Implementation Plans; State of Iowa; 2014 Iowa State Implementation Plan

AGENCY: Environmental Protection Agency.

ACTION: Final rule.

SUMMARY: The Environmental Protection Agency (EPA) is taking final action to approve a revision to the State Implementation Plan (SIP) for the State of Iowa. This final action will approve a revision to Iowa's SIP for the 2006 24-hour PM2.5 National Ambient Air Quality Standards (NAAQS). The proposed action was published in the Federal Register on August 11, 2014. As stated in the proposal, the SIP revision submitted by the state satisfies the applicable requirements of the Clean Air Act (CAA) and will keep the Muscatine County, Iowa area in attainment of the 2006 24-hour PM2.5 NAAQS.

DATES: This final rule is effective on December 31, 2014.

ADDRESSES: EPA has established a docket for this action under Docket ID No. EPA-R07-OAR-2014-0550. All documents in the docket are listed on the http://www.regulations.gov Web site. Although listed in the index, some information is not publicly available, i.e., CBI or other information whose disclosure is restricted by statute. Certain other material, such as copyrighted material, is not placed on the Internet and will be publicly available only in hard copy form. Publicly available docket materials are available either electronically through http://www.regulations.gov or in hard copy at the Environmental Protection Agency, Air Planning and Development Branch, 11201 Renner Boulevard, Lenexa, Kansas 66219. The Regional Office's official hours of business are Monday through Friday, 8:00 to 4:30 excluding Federal holidays. The interested persons wanting to examine these documents should make an appointment with the office at least 24 hours in advance.

FOR FURTHER INFORMATION CONTACT: Amy Algoe-Eakin, Environmental Protection Agency, Air Planning and Development Branch, 11201 Renner Boulevard, Lenexa, Kansas 66219 at (913) 551-7942, or by email at algoe-eakin.amy@epa.gov.

SUPPLEMENTARY INFORMATION: Throughout this document “we,” “us,” or “our” refer to EPA. This section provides additional information by addressing the following:

I. What is being addressed in this document?

II. Have the requirements for approval of a SIP revision been met?

III. EPA's Response to Comments

IV. What action is EPA taking?

V. Statutory and Executive Order Reviews

I. What is being addressed in this document?

EPA is granting final approval to the Iowa SIP submitted in response to a July 14, 2011, SIP Call related to the 2006 24-hour PM2.5 NAAQS. 76 FR 41424. EPA proposed approval of this SIP revision on August 11, 2014. 79 FR 46742. A complete background of this rulemaking can be found in the docket for the proposal.

II. Have the requirements for approval of a SIP revision been met?

The state submission has met the public notice requirements for SIP submissions in accordance with 40 CFR 51.102. The submission also satisfied the completeness criteria of 40 CFR part 51, appendix V. In addition, as explained above and in more detail in the technical support document which is part of this document, the revision meets the substantive SIP requirements of the CAA, including section 110 and implementing regulations.

III. EPA's Response to Comments

The public comment period on EPA's proposed rule opened August 11, 2014, the date of its publication in the Federal Register, and closed on September 10, 2014. During this period, EPA received three comment letters from the Iowa Chapter of the Sierra Club, Iowa Environmental Council, and Clean Air Muscatine, Inc.

Comment 1: Two commenters commented on the negative effects of PM2.5 emissions the citizens of Muscatine. One commenter stated that excessive PM2.5 emissions “deprive health people of their ability to live their lives as actively as they might wish.” One commenter stated that PM2.5 causes and exacerbates respiratory illness. A commenter also stated that excessive PM2.5 emissions impede a community's ability to enjoy economic progress.

Response 1: EPA agrees that PM2.5 emissions can have negative health and economic effects on a community. EPA issued a SIP Call to Iowa to address the violations of the 2006 24-hour PM2.5 NAAQS in the Muscatine County, area. 76 FR 41424. The July 30, 2014, Technical Support Document (TSD) for this proposed action ¹ shows that the monitored values are currently below the 2006 24-hour PM2.5 NAAQS. In this SIP being finalized today the State of Iowa has identified permanent and enforceable strategies to provide for continued attainment.

¹ 79 FR 43742 (August 11, 2014); EPA-R07-OAR-2014-0550; FRL 9915-02-Region 7.

Comment 2: Two commenters commented on the emissions from Grain Processing Corporation (GPC). Both commenters note that GPC has a history of pollution and violating the CAA. Both commenters noted the enforcement action taken by the Iowa Attorney General's office regarding violations at GPC. Both commenters also expressed concerns about GPC complying with the terms of the SIP.

Response 2: The final action today incorporates Iowa's SIP into the Federally-approved SIP. As a result, EPA will have the authority to enforce any violations of the SIP pursuant to section 113 of the CAA. EPA intends to monitor compliance with the obligations set forth in Iowa's SIP for the Muscatine County area to ensure the area continues to attain the NAAQS. Further, the SIP contingency measures provide, that if, after the implementation of controls, the area violates the standard, the contingency measures will go into effect to reduce PM2.5 emissions in the Muscatine County area. These protections ensure that emission sources will comply with the terms of the SIP.

Comment 3: Two commenters stated that the 2017 attainment date was later than what was proposed in the SIP Call. One commenter stated that the technology to “clean the air” has been around for years and the corrective measures proposed are to be completed by 2017.

Response 3: The July 30, 2014, TSD for the proposed action ² shows that the monitored values for PM2.5 in the Muscatine area are currently below the 2006 24-hour PM2.5 NAAQS and the State of Iowa has identified permanent and enforceable strategies to provide for continued attainment. Further, the TSD discusses the complexity of the projects GPC is implementing. The number of pollutant-reducing projects as well as the necessity of a phased construction approach illustrate that the 2017 attainment date is as expeditious as practicable.

² Id.

Comment 4: One commenter notes that the SIP submission from Iowa was a year later than what was proposed in the SIP Call.

Response 4: EPA agrees that State of Iowa did not submit the SIP to EPA within the timeframe identified in the SIP Call. However, the Muscatine County area is currently attaining the PM2.5 2006 24-hour NAAQS and in the SIP being finalized today, the State of Iowa has demonstrated permanent and enforceable strategies are in place to provide for continued attainment.

Comment 5: One commenter noted that the contingency measure triggers in the proposed action were different than what was stated in the SIP Call.

Response 5: In the SIP call, EPA stated that it did not intend for CAA section 175A(d) to apply literally to the Muscatine area, but rather provided that Iowa follow section 175A(d) as a guide for developing and implementing contingency measures. 76 FR 41428. At the time of the SIP Call, EPA believed it was reasonable to expect the 98th percentile would be the appropriate trigger for implementing contingency measures. 76 FR at 41426. After reviewing Iowa's SIP revision and the associated contingency measures, EPA believes that the SIP revision meets the requirements of the SIP Call. Iowa has used section 175A(d) as guidance in developing the contingency measures, as required by the SIP Call. The contingency measure trigger proposed by Iowa is also reasonable. The first contingency measure trigger using the design value, to determine whether there is a violation, is consistent with the 2006 PM2.5 NAAQS. The second contingency measure trigger using the 98th percentile value is consistent with EPA's SIP Call. Iowa will immediately implement the contingency measures as described below, upon reaching the first trigger. EPA has carefully reviewed the control strategy and the contingency measures proposed and agrees that the design value trigger for the contingency measures is reasonable, given the strength of the control strategy and the contingency measures proposed and the current design value data of 28 μg/m³.

Comment 6: One commenter noted that it was difficult for the public to meaningfully participate in the SIP process if EPA does not follow what was stated in a final SIP Call.

Response 6: EPA provided opportunity for public comment in accordance with the CAA for the SIP Call and the proposed rule to approve Iowa's SIP. The SIP Call provided requirements for the state to address and also identified that the state establish a specific date in its SIP revision by which the Muscatine area will attain the standard. Further, the SIP Call provided that EPA will then establish a specific date for attainment when the Agency takes action on the state's plan. In today's action after proposing this action and taking comment, EPA is finalizing that plan in accordance with the SIP Call. The public, including the commenter had adequate opportunity and did provide comment on EPA's proposed action.

IV. What action is EPA taking?

EPA is taking final action to grant full approval of Iowa's SIP revision to address the 2006 24-hour PM2.5 NAAQS.

V. Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” under the terms of Executive Order 12866 (58 FR 51735, October 4, 1993) and is therefore not subject to review under Executive Orders 12866 and 13563 (76 FR 3821, January 21, 2011).

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Public Law 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by January 30, 2015. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: November 14, 2014.
Karl Brooks,
Regional Administrator, Region 7.

For the reasons stated in the preamble, the Environmental Protection Agency amends 40 CFR part 52 as set forth below:

PART 52—APPROVAL AND PROMULGATION OF IMPLEMENTATION PLANS

1. The authority citation for part 52 continues to read as follows:

Authority: 42 U.S.C. 7401 et seq.

Subpart Q—Iowa

2. In § 52.820, the table in paragraph (d) is amended by adding entries (29) through (109) in numerical order to read as follows:

§ 52.820 Identification of plan.

* * * * *

(d) * * *

EPA-Approved Iowa Source—Specific Orders/Permits
Name of source | Order/permit No. | State effective date | EPA approval date | Explanation
* * * * * * *
(29) Grain Processing Corporation | Administrative Consent Order NO. 2014-AQ-A1 | 2/14/2014 | 12/1/2014 [Insert Federal Register citation] | The last sentence of Paragraph 5, Section III and Section VI are not approved by EPA as part of the SIP.
(30) Muscatine Power and Water | Permit NO. 74-A-175-S3 | 7/22/2013 | 12/1/2014 [Insert Federal Register citation] |
(31) Muscatine Power and Water | Permit NO. 80-A-006-S3 | 7/22/2013 | 12/1/2014 [Insert Federal Register citation] |
(32) Muscatine Power and Water | Permit NO. 80-A-007-S3 | 7/22/2013 | 12/1/2014 [Insert Federal Register citation] |
(33) Muscatine Power and Water | Permit NO. 80-A-191-P2 | 7/22/2013 | 12/1/2014 [Insert Federal Register citation] |
(34) Muscatine Power and Water | Permit NO. 80-A-193-S3 | 7/22/2013 | 12/1/2014 [Insert Federal Register citation] |
(35) Muscatine Power and Water | Permit NO. 80-A-194-S3 | 7/22/2013 | 12/1/2014 [Insert Federal Register citation] |
(36) Muscatine Power and Water | Permit NO. 80-A-197-S2 | 7/22/2013 | 12/1/2014 [Insert Federal Register citation] |
(37) Muscatine Power and Water | Permit NO. 80-A-200-S1 | 7/22/2013 | 12/1/2014 [Insert Federal Register citation] |
(38) Muscatine Power and Water | Permit NO. 80-A-201-S1 | 7/22/2013 | 12/1/2014 [Insert Federal Register citation] |
(39) Muscatine Power and Water | Permit NO. 80-A-202-S2 | 7/22/2013 | 12/1/2014 [Insert Federal Register citation] |
(40) Muscatine Power and Water | Permit NO. 93-A-283-S2 | 7/22/2013 | 12/1/2014 [Insert Federal Register citation] |
(41) Muscatine Power and Water | Permit NO. 93-A-288-S3 | 7/22/2013 | 12/1/2014 [Insert Federal Register citation] |
(42) Muscatine Power and Water | Permit NO. 93-A-289-S3 | 7/22/2013 | 12/1/2014 [Insert Federal Register citation] |
(43) Muscatine Power and Water | Permit NO. 93-A-290-S3 | 7/22/2013 | 12/1/2014 [Insert Federal Register citation] |
(44) Muscatine Power and Water | Permit NO. 93-A-373-P2 | 7/22/2013 | 12/1/2014 [Insert Federal Register citation] |
(45) Muscatine Power and Water | Permit NO. 00-A-638-S3 | 7/22/2013 | 12/1/2014 [Insert Federal Register citation] |
(46) Muscatine Power and Water | Permit NO. 00-A-639-S1 | 7/22/2013 | 12/1/2014 [Insert Federal Register citation] |
(47) Muscatine Power and Water | Permit NO. 00-A-689-S1 | 7/22/2013 | 12/1/2014 [Insert Federal Register citation] |
(48) Muscatine Power and Water | Permit NO. 00-A-684-S1 | 7/22/2013 | 12/1/2014 [Insert Federal Register citation] |
(49) Muscatine Power and Water | Permit NO. 00-A-686-S1 | 7/22/2013 | 12/1/2014 [Insert Federal Register citation] |
(50) Muscatine Power and Water | Permit NO. 00-A-687-S1 | 7/22/2013 | 12/1/2014 [Insert Federal Register citation] |
(51) Muscatine Power and Water | Permit NO. 01-A-193-S2 | 7/22/2013 | 12/1/2014 [Insert Federal Register citation] |
(52) Muscatine Power and Water | Permit NO. 01-A-218-S1 | 7/22/2013 | 12/1/2014 [Insert Federal Register citation] |
(53) Muscatine Power and Water | Permit NO. 01-A-456-S1 | 7/22/2013 | 12/1/2014 [Insert Federal Register citation] |
(54) Muscatine Power and Water | Permit NO. 01-A-617-S1 | 7/22/2013 | 12/1/2014 [Insert Federal Register citation] |
(55) Muscatine Power and Water | Permit NO. 04-A-618-S1 | 7/22/2013 | 12/1/2014 [Insert Federal Register citation] |
(56) Muscatine Power and Water | Permit NO. 04-A-619-S1 | 7/22/2013 | 12/1/2014 [Insert Federal Register citation] |
(57) Muscatine Power and Water | Permit NO. 11-A-562-S1 | 7/22/2013 | 12/1/2014 [Insert Federal Register citation] |
(58) Muscatine Power and Water | Permit NO. 13-A-139 | 7/23/2013 | 12/1/2014 [Insert Federal Register citation] |
(59) Muscatine Power and Water | Permit NO. 13-A-140 | 7/23/2013 | 12/1/2014 [Insert Federal Register citation] |
(60) Muscatine Power and Water | Permit NO. 13-A-141 | 7/23/2013 | 12/1/2014 [Insert Federal Register citation] |
(61) Muscatine Power and Water | Permit NO. 13-A-142 | 7/22/2013 | 12/1/2014 [Insert Federal Register citation] |
(62) Muscatine Power and Water | Permit NO. 13-A-143 | 7/22/2013 | 12/1/2014 [Insert Federal Register citation] |
(63) Muscatine Power and Water | Permit NO. 13-A-146 | 7/22/2013 | 12/1/2014 [Insert Federal Register citation] |
(64) Muscatine Power and Water | Permit NO. 13-A-147 | 7/22/2013 | 12/1/2014 [Insert Federal Register citation] |
(65) Muscatine Power and Water | Permit NO. 13-A-148 | 7/22/2013 | 12/1/2014 [Insert Federal Register citation] |
(66) Muscatine Power and Water | Permit NO. 13-A-150 | 7/22/2013 | 12/1/2014 [Insert Federal Register citation] |
(67) Muscatine Power and Water | Permit NO. 13-A-151 | 7/22/2013 | 12/1/2014 [Insert Federal Register citation] |
(68) Muscatine Power and Water | Permit NO. 13-A-152 | 7/22/2013 | 12/1/2014 [Insert Federal Register citation] |
(69) Muscatine Power and Water | Permit NO. 13-A-153 | 7/22/2013 | 12/1/2014 [Insert Federal Register citation] |
(70) Muscatine Power and Water | Permit NO. 13-A-154 | 7/22/2013 | 12/1/2014 [Insert Federal Register citation] |
(71) Muscatine Power and Water | Permit NO. 13-A-155 | 7/22/2013 | 12/1/2014 [Insert Federal Register citation] |
(72) Muscatine Power and Water | Permit NO. 13-A-157 | 7/22/2013 | 12/1/2014 [Insert Federal Register citation] |
(73) Muscatine Power and Water | Permit NO. 13-A-158 | 7/22/2013 | 12/1/2014 [Insert Federal Register citation] |
(74) Muscatine Power and Water | Permit NO. 13-A-159 | 7/22/2013 | 12/1/2014 [Insert Federal Register citation] |
(75) Muscatine Power and Water | Permit NO. 13-A-161 | 7/22/2013 | 12/1/2014 [Insert Federal Register citation] |
(76) Muscatine Power and Water | Permit NO. 80-A-196-S3 | 7/22/2013 | 12/1/2014 [Insert Federal Register citation] |
(77) Muscatine Power and Water | Permit NO. 93-A-286-S4 | 7/22/2013 | 12/1/2014 [Insert Federal Register citation] |
(78) Muscatine Power and Water | Permit NO. 01-A-457-S4 | 7/22/2013 | 12/1/2014 [Insert Federal Register citation] |
(79) Muscatine Power and Water | Permit NO. 06-A-650-S2 | 7/22/2013 | 12/1/2014 [Insert Federal Register citation] |
(80) Muscatine Power and Water | Permit NO. 13-A-160 | 7/22/2013 | 12/1/2014 [Insert Federal Register citation] |
(81) Union Tank Car Company | Permit NO. 93-A-251-S5 | 4/08/2013 | 12/1/2014 [Insert Federal Register citation] |
(82) Union Tank Car Company | Permit NO. 93-A-252-S5 | 4/08/2013 | 12/1/2014 [Insert Federal Register citation] |
(83) Union Tank Car Company | Permit NO. 93-A-253-S5 | 4/08/2013 | 12/1/2014 [Insert Federal Register citation] |
(84) Union Tank Car Company | Permit NO. 93-A-254-S3 | 4/08/2013 | 12/1/2014 [Insert Federal Register citation] |
(85) Union Tank Car Company | Permit NO. 00-A-1086-S2 | 4/08/2013 | 12/1/2014 [Insert Federal Register citation] |
(86) Union Tank Car Company | Permit NO. 00-A-1087-S2 | 4/08/2013 | 12/1/2014 [Insert Federal Register citation] |
(87) Union Tank Car Company | Permit NO. 00-A-1088-S2 | 4/08/2013 | 12/1/2014 [Insert Federal Register citation] |
(88) Union Tank Car Company | Permit NO. 93-A-255-S7 | 4/08/2013 | 12/1/2014 [Insert Federal Register citation] |
(89) Union Tank Car Company | Permit NO. 96-A-629-S3 | 4/08/2013 | 12/1/2014 [Insert Federal Register citation] |
(90) Union Tank Car Company | Permit NO. 96-A-630-S5 | 4/08/2013 | 12/1/2014 [Insert Federal Register citation] |
(91) Union Tank Car Company | Permit NO. 96-A-631-S3 | 4/08/2013 | 12/1/2014 [Insert Federal Register citation] |
(92) Union Tank Car Company | Permit NO. 96-A-636-S3 | 4/08/2013 | 12/1/2014 [Insert Federal Register citation] |
(93) Union Tank Car Company | Permit NO. 00-A-529-S2 | 4/08/2013 | 12/1/2014 [Insert Federal Register citation] |
(94) Union Tank Car Company | Permit NO. 00-A-530-S2 | 4/08/2013 | 12/1/2014 [Insert Federal Register citation] |
(95) Union Tank Car Company | Permit NO. 00-A-531-S2 | 4/08/2013 | 12/1/2014 [Insert Federal Register citation] |
(96) Union Tank Car Company | Permit NO. 00-A-532-S2 | 4/08/2013 | 12/1/2014 [Insert Federal Register citation] |
(97) Union Tank Car Company | Permit NO. 00-A-533-S2 | 4/08/2013 | 12/1/2014 [Insert Federal Register citation] |
(98) Union Tank Car Company | Permit NO. 93-A-256-S6 | 4/08/2013 | 12/1/2014 [Insert Federal Register citation] |
(99) Union Tank Car Company | Permit NO. 96-A-632-S5 | 4/08/2013 | 12/1/2014 [Insert Federal Register citation] |
(100) Union Tank Car Company | Permit NO. 96-A-633-S5 | 4/08/2013 | 12/1/2014 [Insert Federal Register citation] |
(101) Union Tank Car Company | Permit NO. 96-A-634-S5 | 4/08/2013 | 12/1/2014 [Insert Federal Register citation] |
(102) Union Tank Car Company | Permit NO. 96-A-635-S5 | 4/08/2013 | 12/1/2014 [Insert Federal Register citation] |
(103) Union Tank Car Company | Permit NO. 00-A-1089-S2 | 4/08/2013 | 12/1/2014 [Insert Federal Register citation] |
(104) Union Tank Car Company | Permit NO. 00-A-1090-S2 | 4/08/2013 | 12/1/2014 [Insert Federal Register citation] |
(105) Union Tank Car Company | Permit NO. 00-A-1091-S2 | 4/08/2013 | 12/1/2014 [Insert Federal Register citation] |
(106) Union Tank Car Company | Permit NO. 10-A-043-S2 | 4/08/2013 | 12/1/2014 [Insert Federal Register citation] |
(107) Union Tank Car Company | Permit NO. 09-A-009-S2 | 4/08/2013 | 12/1/2014 [Insert Federal Register citation] |
(108) Union Tank Car Company | Permit NO. 09-A-010-S2 | 4/08/2013 | 12/1/2014 [Insert Federal Register citation] |
(109) Union Tank Car Company | Permit NO. 94-A-434-S2 | 4/08/2013 | 12/1/2014 [Insert Federal Register citation] |

* * * * *

[FR Doc. 2014-28147 Filed 11-28-14; 8:45 am]

BILLING CODE 6560-50-P